INTERNATIONAL TRADE COMMISSION

[Investigation No. 337-TA-1033]

Certain Arrowheads With Arcuate Blades and Components Thereof; Commission Final Determination of Violation of Section 337; Issuance of a General Exclusion Order; Termination of Investigation

AGENCY: U.S. International Trade Commission.

ACTION: Notice.

SUMMARY: Notice is hereby given that the U.S. International Trade Commission has determined that there is a violation of section 337 of the Tariff Act of 1930, as amended in the above-captioned investigation. The Commission has issued a general exclusion order (“GEO”) barring entry of certain arrowheads with arcuate blades and components thereof that infringe the patents asserted in this investigation. The Commission has terminated this investigation.

FOR FURTHER INFORMATION CONTACT: Michael Liberman, Esq., Office of the General Counsel, U.S. International Trade Commission, 500 E Street SW, Washington, DC 20436, telephone (202) 205-3115. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: On January 6, 2017, the Commission instituted an investigation under section 337, based on a complaint filed by complainant Flying Arrow Archery, LLC of Belgrade, Montana (“Flying Arrow,” or Complainant), alleging a violation of section 337 in the importation, sale for importation, and sale within the United States after importation of certain arrowheads with arcuate blades and components thereof (the “Accused Products”) by reason of infringement of one or more of claims 5 and 25 of U.S. Patent No. 8,920,269 (“the `269 patent”); the claim of U.S. Design Patent No. D713,919 (“the `919 design patent”); and the claim of U.S. Design Patent No. D729,336 (“the `336 design patent”) (collectively, the “Asserted Patents”). See 82 FR 1760-61 (Jan. 6, 2017) (Notice of Investigation). The Notice of Investigation named the following respondents: Arthur Sifuentes of Spring, Texas; Liu Mengbao and Zhou Yang, both of Guangdong, China; Jiangfeng Mao of Jiangsu, China; Sandum Precision Industry (China) Co., Ltd. (In-Sail) of Guangdong Province, China; Wei Ran, Dongguan Hongsong, and Wanyuxue, all of Guangdong, China; and Yandong of Henan, China. A Commission investigative attorney (“IA”) is participating in this investigation. Id.

On April 4, 2017, the ALJ found Arthur Sifuentes, Zhou Yang, Jianfeng Mao, Sandum Precision, and Liu Mengbao (collectively, the “Defaulting Respondents”) in default. See Order No. 6 (unreviewed, Commission Notice (Apr. 28, 2017)). On April 6, 2017, the ALJ issued an Initial Determination granting Flying Arrow's motion to terminate the Investigation as to the remaining respondents based on withdrawal of the infringement allegations in the Complaint. See Order No. 7 (unreviewed, Commission Notice (Apr. 28, 2017)).

On August 15, 2017, complainant filed a motion for summary determination of a violation of section 337 pursuant to Commission Rule 210.16(c)(2) to support its request for entry of a general exclusion order with respect to all asserted patents. The IA filed a timely response in support of the motion. No respondent filed a response to the motion.

On November 8, 2017, the presiding ALJ issued an ID (Order No. 9) granting Complainant's motion for summary determination thus finding a violation of section 337, and recommending the issuance of a GEO. No party petitioned for review of the ID.

On December 21, 2017, the Commission determined not to review Order No. 9. See “Notice of Commission Decision Not to Review an Initial Determination Granting Complainant's Motion for Summary Determination of a Violation of Section 337; Request for Submissions [on Remedy, the Public Interest, and Bonding]” (December 21, 2017) (“Commission Notice”). See 82 FR 61587-88 (Dec. 28, 2017). The Commission's determination resulted in a determination of a violation of section 337.

The Commission requested written submissions on remedy, public interest, and bonding. Id. Complainant and the IA timely filed their submissions pursuant to the Commission Notice. No other parties filed any submissions in response to the Commission Notice.

Having reviewed the submissions filed in response to the Commission's Notice and the evidentiary record, the Commission has determined that the appropriate form of relief in this investigation is a GEO prohibiting the unlicensed importation of certain arrowheads with arcuate blades and components thereof covered by one or more of claims 5 and 25 of the `269 patent, the claim of the `919 design patent, and the claim of the `336 design patent.

The Commission has further determined that the public interest factors enumerated in subsection (g)(1) (19 U.S.C. 1337(g)(1)) do not preclude issuance of the above-referenced remedial order. Finally, the Commission has determined that a bond in the amount of one hundred (100) percent of the entered value is required to permit temporary importation of the articles in question during the period of Presidential review (19 U.S.C. 1337(j)). The investigation is terminated.

The Commission's order, opinion, and the record upon which it based its determination were delivered to the President and to the United States Trade Representative on the day of their issuance. The Commission has also notified the Secretary of the Treasury of the order.

The authority for the Commission's determination is contained in section 337 of the Tariff Act of 1930, as amended (19 U.S.C. 1337), and in Part 210 of the Commission's Rules of Practice and Procedure (19 CFR part 210).

Issued: April 12, 2018.
By order of the Commission.
Lisa Barton,
Secretary to the Commission.

[FR Doc. 2018-08036 Filed 4-17-18; 8:45 am]

BILLING CODE 7020-02-P